DEPARTMENT OF ENERGY

Bonneville Power Administration

Grande Ronde—Imnaha Spring Chinook Hatchery Project Final Design and Property Acquisition

AGENCY: Bonneville Power Administration (BPA), Department of Energy (DOE).

ACTION: Notice of availability of Record of Decision (ROD).

SUMMARY: This notice announces the availability of the ROD to fund the final design and property acquisition portions of the Proposed Action for the Grande Ronde—Imnaha Spring Chinook Hatchery Project in Northeast Oregon, as well as additional valuation studies recommended by the Northwest Power and Conservation Council. This decision is based on the Final Grande Ronde—Imnaha Chinook Hatchery Project Environmental Impact Statement (DOE/EIS-0340, July 2004). Decisions to fund the construction of the project itself, post-construction operations, facilities maintenance, and/or monitoring and evaluation of the project will follow after the design and additional cost evaluation. The purpose of the project is to aid the conservation and recovery of the Snake River spring/summer Chinook salmon native to the Grand Ronde and Imnaha subbasins of Northeast Oregon (Blue Mountain Province), which are listed as threatened and are protected by the Endangered Species Act. Adequate, contemporary hatchery facilities are needed to mitigate for and recover these fish stocks.

ADDRESSES: Copies of the ROD and EIS may be obtained by calling BPA's toll-free document request line, 1-800-622-4520. The ROD and EIS Summary are also available on our Web site, www.efw.bpa.gov.

FOR FURTHER INFORMATION CONTACT: Mr. Mickey Carter, Bonneville Power Administration—KEC-4, P.O. Box 3621, Portland, Oregon 97208-3621; toll-free telephone number 1-800-282-3713; fax number 503-230-5699; or e-mail macarter@bpa.gov.

Issued in Portland, Oregon, on March 11, 2005.
Stephen J. Wright,
Administrator and Chief Executive Officer.

[FR Doc. 05-5605 Filed 3-21-05; 8:45 am]

BILLING CODE 6450-01-P